DEPARTMENT OF LABOR

Office of the Secretary

ZRIN 1290-ZA02

Guidance for Executive Order 13673: “Fair Pay and Safe Workplaces”

AGENCY: Department of Labor.

ACTION: Proposed guidance; extension of comment period.

SUMMARY: On May 28, 2015, the Department of Labor (DOL) published proposed guidance to assist federal agencies and the contracting community in implementing Executive Order 13673, “Fair Pay and Safe Workplaces,” which is designed to improve contractor compliance with labor laws and increase efficiency and cost savings in Federal contracting. The deadline for submitting comments is being extended from July 27, 2015, to August 11, 2015, to provide additional time for interested parties to provide comments on the DOL guidance. The Department of Defense (DOD), General Services Administration (GSA), and National Aeronautics and Space Administration (NASA), which on May 28, 2015, jointly published a proposed rule implementing Executive Order 13673, are similarly extending the comment period for their proposed rule by 15 days to August 11, 2015.

If you have already commented on the proposed guidance you do not need to resubmit your comment. Should you choose to do so, you can submit additional or supplemental comments. DOL will consider all comments received from the date of publication of the proposed guidance through the close of the extended comment period.

DATES: The comment period for the Proposed Guidance published on May 28, 2015, at 80 FR 30573, scheduled to close on July 27, 2015, is extended until August 11, 2015.

ADDRESSES: You may submit comments, identified by ZRIN 1290-ZA02, by either of the following methods:

Electronic comments: Comments may be sent via http://www.regulations.gov, a Federal E-Government Web site that allows the public to find, review, and submit comments on documents that agencies have published in the Federal Register and that are open for comment. Simply type in “guidance on fair pay and safe workplaces” (in quotes) in the Comment or Submission search box, click Go, and follow the instructions for submitting comments.

Mail: Address written submissions to Tiffany Jones, U.S. Department of Labor, Room S-2312, 200 Constitution Avenue NW., Washington, DC 20210.

Instructions: Please submit only one copy of your comments by only one method. All submissions must include the agency name and ZRIN, identified above, for this document. Please be advised that comments received will become a matter of public record and will be posted without change to http://www.regulations.gov, including any personal information provided. Comments that are mailed must be received by the date indicated for consideration.

FOR FURTHER INFORMATION CONTACT: Kathleen E. Franks, Director, Office of Regulatory and Programmatic Policy, U.S. Department of Labor, Room S-2312, 200 Constitution Avenue NW., Washington, DC 20210; telephone: (202) 693-5959. Copies of the proposed guidance may be obtained in alternative formats (large print, Braille, audio tape or disc), upon request, by calling (202) 693-5959. TTY/TDD callers may dial toll-free [1-877-889-5627] to obtain information or request materials in alternative formats.

SUPPLEMENTARY INFORMATION: On May 28, 2015, DOL published proposed guidance in the Federal Register at 80 FR 30573. DOL was to receive comments on this guidance on or before July 27, 2015.

DOL has determined that it is appropriate to provide an additional 15-day period for comment on the guidance, after considering requests to extend the comment period.

To allow the public sufficient time to review and comment on the proposed guidance, DOL is extending the comment period until August 11, 2015.

Mary Beth Maxwell,
Principal Deputy Assistant Secretary, Office of the Assistant Secretary for Policy, U.S. Department of Labor.

[FR Doc. 2015-17281 Filed 7-13-15; 8:45 am]

BILLING CODE 4510-HX-P